COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products and services to the Procurement List that will be furnished by nonprofit agencies employing persons who are blind or have other severe disabilities, and deletes products previously furnished by such agency.

Comments Must Be Received on or Before: 8/31/2015.

ADDRESSES: Committee for Purchase From People Who Are Blind or Severely Disabled, 1401 S. Clark Street, Suite 715, Arlington, Virginia, 22202-4149.

For Further Information or To Submit Comments Contact: Barry S. Lineback, Telephone: (703) 603-7740, Fax: (703) 603-0655, or email CMTEFedReg@AbilityOne.gov.

SUPPLEMENTARY INFORMATION:

This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Names(s):

MR 10681—Bib, Baby, Halloween

MR 10683—Socks, Halloween

MR 10684—Gloves, Halloween

MR 10685—Party Favors, Halloween, Spiders and Webs

MR 10686—Party Favors, Halloween, Witch's Fingers

MR 10687—Party Favors, Halloween, Nose and Glasses

MR 10688—Party Favors, Halloween, Fangs

MR 10689—Party Favors, Halloween, Mini Spiral Note Book

MR 10690—Party Favors, Halloween, Sticky Eyes

Mandatory Source of Supply: Winston-Salem Industries for the Blind, Inc., Winston-Salem, NC

Mandatory Purchase For: Military commissaries and exchanges in accordance with the Code of Federal Regulations, Chapter 51, 51-6.4.

Contracting Activity: Defense Commissary Agency, Fort Lee, VA

Distribution: C-List

Services

Service Type: Removal/Clean-up Bird Dropping Service

Service is Mandatory For: Defense Logistics Agency, Defense Supply Center Richmond, 8000 Jefferson Davis Highway, Richmond, VA

Mandatory Source of Supply: Richmond Area Association for Retarded Citizens, Richmond, VA

Contracting Activity: Defense Logistics Agency, DLA Contracting Services Office, Richmond, VA

Service Type: Janitorial and Related Service

Service is Mandatory For: U.S. Customs and Border Protection, 1 La Puntilla Street, San Juan, PR

Mandatory Source of Supply: The Corporate Source, Inc., New York, NY

Contracting Activity: U.S. Customs and Border Protection, Border Enforcement Contracting Division

Deletions

The following products are proposed for deletion from the Procurement List:

Products

NSN(s)—Product Names(s):

8440-00-205-2509—Belt, General Officers, Leather, Army, Black, 44

8440-00-205-2510—Belt, General Officers, Leather, Army, Black, 28

8440-00-205-2511—Belt, General Officers, Leather, Army, Black, 29

8440-00-205-2512—Belt, General Officers, Leather, Army, Black, 30

8440-00-205-2513—Belt, General Officers, Leather, Army, Black, 31

8440-00-205-2514—Belt, General Officers, Leather, Army, Black, 32

8440-00-205-2515—Belt, General Officers, Leather, Army, Black, 33

8440-00-205-2516—Belt, General Officers, Leather, Army, Black, 34

8440-00-205-2517—Belt, General Officers, Leather, Army, Black, 35

8440-00-205-2518—Belt, General Officers, Leather, Army, Black, 36

8440-00-205-2519—Belt, General Officers, Leather, Army, Black, 37

8440-00-205-2520—Belt, General Officers, Leather, Army, Black, 38

8440-00-205-2521—Belt, General Officers, Leather, Army, Black, 39

8440-00-205-2522—Belt, General Officers, Leather, Army, Black, 40

8440-00-205-2523—Belt, General Officers, Leather, Army, Black, 41

8440-00-205-2524—Belt, General Officers, Leather, Army, Black, 42

8440-00-205-2525—Belt, General Officers, Leather, Army, Black, 43

Mandatory Source of Supply: Stone Belt ARC, Inc., Bloomington, IN

Contracting Activity: Defense Logistics Agency Troop Support, Philadelphia, PA

Barry S. Lineback,
Director, Business Operations.

[FR Doc. 2015-18851 Filed 8-3-15; 8:45 am]

BILLING CODE 6353-01-P